NATIONAL AERONAUTICS AND SPACE ADMINISTRATION

[Notice: 26-014]

Aerospace Safety Advisory Panel; Meeting

AGENCY: National Aeronautics and Space Administration (NASA).

ACTION: Notice of meeting.

SUMMARY: In accordance with the Federal Advisory Committee Act, the National Aeronautics and Space Administration announces a forthcoming meeting of the Aerospace Safety Advisory Panel (ASAP).

DATES: Monday, March 16, 2026, 2:00 p.m. to 3:30 p.m., eastern time.

ADDRESSES: Public attendance will be virtual only. See dial in information below under SUPPLEMENTARY INFORMATION.

FOR FURTHER INFORMATION CONTACT: Ms. Marcia Guignard, ASAP Administrative Officer, NASA Headquarters, Washington, DC 20546, (202) 358-4717 or marcia.guinard@nasa.gov.

SUPPLEMENTARY INFORMATION: The Aerospace Safety Advisory Panel (ASAP) will hold its First Quarterly Meeting for 2026. This discussion is pursuant to carrying out its statutory duties for which the Panel reviews, identifies, evaluates, and advises on those program activities, systems, procedures, and management activities that can contribute to program risk. Priority is given to those programs that involve the safety of human flight. The agenda will include:

—Updates on the Commercial Crew Program

—Updates on Advanced Exploration Systems Program

—Updates on Health and Human Exploration

This meeting is only available telephonically. Any interested person may call the USA toll free conference call number 800-369-3107; passcode 3116192 and then the # sign. At the beginning of the meeting, members of the public may make a verbal presentation to the Panel on the subject of safety in NASA, not to exceed 5 minutes in length. To do so, members of the public must contact Ms. Marcia Guignard, at marcia.guignard@nasa.gov, or at (202) 358-4717 at least 48 hours in advance. Any member of the public is permitted to file a written statement with the Panel via electronic submission to Ms. Guignard at the email address previously noted. Verbal presentations and written statements should be limited to the subject of safety in NASA. It is imperative that the meeting be held on this date to accommodate the scheduling priorities of the key participants.

Jamie M. Krauk,
Advisory Committee Management Officer, National Aeronautics and Space Administration.

[FR Doc. 2026-04064 Filed 2-27-26; 8:45 am]

BILLING CODE 7510-13-P